DEPARTMENT OF HOUSING AND URBAN DEVELOPMENT

[Docket No. FR-5487-N-03]

Notice of Proposed Information Collection for Public Comment Public Housing Assessment System Appeals, Technical Reviews and Database Adjustments

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: April 25, 2011.

ADDRESSES: Interested persons are invited to submit comments regarding this proposal. Comments should refer to the proposal by name/or OMB Control number and should be sent to: Colette Pollard, Department Reports Management Officer, Office of the Chief Information Officer, Department of Housing and Urban Development, 451 7th Street, SW., Room 4160, Washington, DC 20410-5000; telephone 202.402.3400, (this is not a toll-free number) or e-mail Ms. Colette_Pollard@hud.gov. Persons with hearing or speech impairments may access this number through TTY by calling the toll-free Federal Information Relay Service at (800) 877-8339. (Other than the HUD USER information line and TTY numbers, telephone numbers are not toll-free.)

FOR FURTHER INFORMATION CONTACT: Arlette Mussington, Office of Policy, Programs and Legislative Initiatives, PIH, Department of Housing and Urban Development, 451 Seventh Street, SW., (L'Enfant Plaza, Room 2206), Washington, DC 20410; telephone: 202-402-4109. (This is not a toll-free number)

SUPPLEMENTARY INFORMATION: The Department will submit the proposed information collection to OMB for review, as required by the Paperwork Reduction Act of 1995 (44 U.S.C. Chapter 35, as amended). This Notice is soliciting comments from members of the public and affected agencies concerning the revised collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology, e.g., permitting electronic submission of responses.

This Notice also lists the following information:

Title of Proposal: Public Housing Assessment System Appeals, Technical Reviews and Database Adjustments.

OMB Control Number: 2577-0257.

1. Description of the Need for the Information and Proposed Use: Section 502 of the National Affordable Housing Act of 1990, as amended by the Quality Housing and Work Responsibility Act of 1998 (QHWRA), implements section 6(j) of the United States Housing Act of 1937 (the Act). Section 6(j) establishes specific assessment indicators and directs the Secretary to develop additional indicators to assess the management performance of public housing agencies (PHAs) in all major areas of management operations. The four Public Housing Assessment System (PHAS) indicators under the new proposed PHAS rule are: Physical condition; financial condition; management operations; and Capital Fund Program. A PHA is designated as troubled if it fails to perform under the assessment indicators, or if it is unable to administer the program for assistance from the Capital Fund Program.

Pursuant to § 6(j)(2)(A)(iii) of the Act, HUD is required to establish procedures for a PHA to appeal its troubled designation. The proposed PHAS interim rule at § 902.69 provides the opportunity for a PHA to appeal its troubled designation, petition for the removal of troubled designation, or appeal its score.

The proposed PHAS interim rule at § 902.68 affords PHAs the opportunity to request a technical review of its physical condition inspection or, at § 902.24, a database adjustment if certain conditions are present. A technical review of the physical condition inspection may be requested if a PHA believes that an objectively verifiable and material error(s) occurred in the inspection of an individual property. A database adjustment may be requested by a PHA due to facts and circumstances affecting a project which are not reflected in the physical condition inspection or which are reflected inappropriately in the physical condition inspection.

HUD uses the data it collects from program participants (PHAs) to evaluate the four individual PHAS indicators and to determine an overall PHAS score for each PHA, and to determine the physical condition scores for individual projects. The overall PHAS score determines if a PHA's performance is high, standard, substandard or troubled, including Capital Fund Program troubled. PHAs may request an appeal of its overall PHAS score, or a technical review or database adjustment of their physical condition score. These requests are submitted by letter from the PHA to HUD, and the letter includes documentation to justify the request. HUD reviews the request and accompanying documentation, and makes a determination as to whether to grant or deny the request based on what the PHA has submitted. These information collections are described in the proposed PHAS interim rule, with thorough definitions of each request. The granting of an appeal, technical review or database adjustment may change a PHA's designation, usually to a higher level.

Agency form numbers: None.

Members of affected public: Public housing agencies.

Estimation of the total number of hours needed to prepare the information collection including number of respondents: 1,700 respondents annually with 1 response per respondent. Average time per response for each form is 5.2 hours and total annual burden hours is 8,840.

Status of the proposed information collection: Revision of a currently approved collection.

Authority: Section 3506 of the Paperwork Reduction Act of 1995, 44 U.S.C. Chapter 35, as amended.

Dated: November 22, 2010.
Merrie Nichols-Dixon,
Acting Deputy, Assistant Secretary for Office of Policy, Programs and Legislative Initiatives.

[FR Doc. 2011-4030 Filed 2-22-11; 8:45 am]

BILLING CODE 4210-67-P